DEPARTMENT OF TRANSPORTATION

Federal Highway Administration

23 CFR Part 973

[FHWA Docket No. FHWA-99-4968]

RIN 2125-AE53

Federal Lands Highway Program; Management Systems Pertaining to the Bureau of Indian Affairs and the Indian Reservation Roads Program

AGENCY: Federal Highway Administration (FHWA), DOT.

ACTION: Notice of public informational meetings.

SUMMARY: On January 8, 2003, at 68 FR 1105, the FHWA published a notice of proposed rulemaking (NPRM) proposing Management Systems Pertaining to the Bureau of Indian Affairs (BIA) and the Indian Reservation Roads (IRR) Program. The NPRM proposed rulemaking would require the BIA, in consultation with the Tribes, to develop and implement nationwide pavement, bridge, and safety management systems. In addition, the NPRM proposed to require the BIA and the FHWA to develop criteria to determine when congestion management systems are required for BIA or Tribal transportation facilities. The FHWA will hold a series of seven public meetings to provide more information to the public regarding this NPRM. These meetings will be used to provide an overview of the rulemaking process, particularly regarding how to submit comments, and to describe FHWA's purpose and intent in developing the proposed rules. Tribal representatives are encouraged to attend these meetings, and to submit suggestions and comments on the proposed rulemaking to the docket.

DATES: The meetings will be held on Thursday, February 6, 2003; two meeting sites for Tuesday, February 11, 2003; Thursday, February 13, 2003; two meeting sites for Wednesday, February 19, 2003; and one meeting on Thursday, February 20, 2003.

ADDRESSES: The February 6, 2003, meeting will take place at 9 a.m. at the Boardwalk Hotel, 3750 Las Vegas Boulevard South, Las Vegas, NV 89109 (this meeting will be held concurrently with a previously scheduled meeting of the Transportation Equity Act for the 21st Century Negotiated Rulemaking Committee); one of the February 11, 2003, meetings will take place at 1 p.m. in the Borealis Room of the Wedgewood Resort, 212 Wedgewood Drive, Fairbanks, AK 99701 (this is a change from the Anchorage, AK location listed in the January 8, 2003, NPRM); the other February 11, 2003, meeting will take place at 2 p.m. at the Indian Pueblo Cultural Center, 2401 12th St. N.W., (1 block north of I-40), Albuquerque, NM 87104; the February 13, 2003, meeting will take place at 9 a.m. at the U.S. Department of the Interior, Bureau of Indian Affairs, Federal Building Auditorium located at 911 N.E. 11th Avenue, Portland, OR 97232; one of the February 19, 2003, meetings will take place at 9 a.m. at the U.S. Department of the Interior, Bureau of Indian Affairs, Bishop Henry Whipple Federal Building, Room G110, One Federal Drive, Fort Snelling, MN 55111 (Minneapolis, MN area); the other February 19, 2003, meeting will take place at 9 a.m. at the U.S. Department of the Interior, Bureau of Indian Affairs, 711 Stewarts Ferry Pike, Nashville, TN 37214; the February 20, 2003, meeting will take place at 2 p.m. at the Oklahoma State University-Tulsa Campus in North Hall, Room 150, 700 N. Greenwood, Tulsa, OK 74016.

FOR FURTHER INFORMATION, CONTACT: Mr. Bob Bini, Federal Lands Highway, HFPD-2, (202) 366-6799, or Ms. Cynthia Hatley, Federal Lands Highway, HFPD-2, (202) 493-0426, FHWA, 400 Seventh St., SW., Washington, DC 20590.

SUPPLEMENTARY INFORMATION: Additional information is also available from the following Tribal Technical Assistance Program Centers for the specified meeting locations:

Las Vegas, NV—Mr. Evan Hong, NCAI TTAP, 626-350-4446; Fairbanks, AK—Mr. Jeff Harman, NW and Alaska TTAP, 800-399-6376; Albuquerque, NM—Mr. Ron Hall, CSU TTAP, 800-262-7623; Portland, OR—Mr. Dennis Frey, NW and Alaska TTAP, 888-944-5454; Fort Snelling, MN (Minneapolis, MN area)—Mr. Dennis Trusty, Northern Plains TTAP, 701-255-3285; Nashville, TN—Mr. Robert Gagnon, MTU TTAP, 906-487-3164; and Tulsa, OK—Mr. James Selfe, OSU—TTAP, 405-744-6049.

Electronic Access

An electronic copy of this document may be downloaded by using a computer, modem, and suitable communications software from the Government Printing Office's Electronic Bulletin Board Service at (202) 512-1661. Internet users may reach the Office of the Federal Register's Home page at: http://www.archives.gov and the Government Printing Office's Web site at: http://www.access.gpo.gov.

Authority: 23 U.S.C. 204, 315, 42 U.S.C. 7410 et seq.; 49 CFR 1.48.

Issued on: January 28, 2003.
Mary E. Peters,
Federal Highway Administrator.

[FR Doc. 03-2355 Filed 1-28-03; 5:01 pm]

BILLING CODE 4910-22-P